DEPARTMENT OF TRANSPORTATION

Federal Transit Administration

Fiscal Year 2021 Competitive Funding Opportunity: Route Planning Restoration Program

AGENCY: Federal Transit Administration (FTA), Department of Transportation (DOT).

ACTION: Notice of Funding Opportunity (NOFO).

SUMMARY: The Federal Transit Administration (FTA) announces the opportunity to apply for $25,000,000 in Fiscal Year (FY) 2021 funding under the Route Planning Restoration Program (Federal Assistance Listing: 20.505). As required by Federal public transportation law and subject to funding availability, funds will be awarded competitively to support planning designed to (i) increase ridership and reduce travel times, while maintaining or expanding the total level of vehicle revenue miles of service provided in the planning period; or (ii) make service adjustments to increase the quality or frequency of service provided to low-income riders and disadvantaged neighborhoods or communities. FTA may award additional funding that is made available to the program prior to the announcement of project selections.

DATES: Complete proposals must be submitted through the GRANTS.GOV “APPLY” function by 11:59 p.m. EDT November 15, 2021. Prospective applicants should initiate the process by registering on the GRANTS.GOV website promptly to ensure completion of registration before the submission deadline. Instructions for applying can be found on FTA's website at https://www.transit.dot.gov/howtoapply and in the “FIND” module of GRANTS.GOV. The GRANTS.GOV funding opportunity ID is FTA-2021-007-TPE. Mail and fax submissions will not be accepted.

FOR FURTHER INFORMATION CONTACT: Colby McFarland, FTA Office of Planning and Environment, (202) 366-1648, or Colby.McFarland@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Other Information

A. Program Description

The American Rescue Plan Act of 2021 (Pub. L. 117-2, March 11, 2021) provides funds to eligible applicants for the planning of public transportation associated with the restoration of transit service as the coronavirus disease 2019 (COVID-19) pandemic subsides. This funding opportunity is being announced under Federal Assistance Listing Number 20.505.

FTA will competitively award grants to undertake transit route planning activities that are designed to (i) increase ridership and reduce travel times, while maintaining or expanding the total level of vehicle revenue miles of service provided in the planning period; or (ii) make service adjustments to increase the quality or frequency of service provided to low-income riders and disadvantaged neighborhoods or communities. Route Planning Restoration Program grant projects may be in partnership with other local governmental entities, non-profits, social service organizations, or housing agencies, among others to identify barriers to opportunity for low-income riders and disadvantaged neighborhoods and communities that are dependent on transit.

This program supports FTA's strategic goals and objectives through timely and efficient investment in public transportation. This program supports the President's plan to mobilize American ingenuity to build a modern infrastructure and an equitable future. By planning for the restoration of transit service that increases access for environmental justice populations, utilizes equity-focused community outreach and public engagement of underserved communities, and adopts equity-focused policies, this NOFO advances the goals of Executive Order 13985: Advancing Racial Equity and Support for Underserved Communities Through the Federal Government. Additionally, intelligent route planning and transit service restoration can help reduce greenhouse gas emissions, in support of Executive Order 13990: Protecting Public Health and the Environment and Restoring Science to Tackle Climate Crisis; and Executive Order 14008: Tackling the Climate Crisis at Home and Abroad.

B. Federal Award Information

FTA intends to award all available funding ($25 million) in the form of grants to selected applicants responding to this NOFO. Additional funds made available prior to project selection may be allocated to eligible projects. Only proposals from eligible recipients for eligible activities will be considered for funding. FTA anticipates maximum grant awards of $1,000,000.

C. Eligibility Information

1. Eligible Applicants

Applicants must be eligible recipients under Section 5307 of Title 49, United States Code (FTA's Urbanized Area Formula Grants program), as of the publication date of this NOFO on GRANTS.GOV.

Additionally, applicants must have experienced a reduction in transit service any time on or after January 20, 2020, as a result of the COVID-19 pandemic.

2. Cost Sharing or Matching

The Federal funding share is 100 percent. FTA will not review more favorably applications that propose non-Federal funding contributions.

3. Eligible Projects

Projects must be associated with a public transportation service area that experienced a reduction in transit services from pre-pandemic levels any time on or after January 20, 2020, as a result of the COVID-19 pandemic. Any planning activities proposed for funding must be designed to (i) increase ridership and reduce travel times, while maintaining or expanding the total level of vehicle revenue miles of service provided in the planning period; or (ii) make service adjustments to increase the quality or frequency of service provided to low-income riders and disadvantaged neighborhoods or communities. For a discussion of eligible planning activities, applicants should refer to FTA Circular C8100.1D—Program Guidance for Metropolitan Planning and State Planning and Research Program Grants, and FTA Circular 9030.1E—Urbanized Area Formula Program: Program Guidance and Application Instructions. Eligible applicants should utilize the definition of “low-income individual” in 49 U.S.C. 5302(11) when considering the service provided to “low-income riders” and the definitions of “minority population” and “low-income population” found in FTA Circular C4702.1B—Title VI Requirements and Guidelines for Federal Transit Administration Recipients when considering the service provided to “disadvantaged neighborhoods or communities” for the purposes of this program.

FTA will not make awards for:

a. Capital, operating, or maintenance activities;

b. Route planning specifically related to transitioning public transportation service provided as of the date of receipt of funds to a transportation network company or other third-party contract provider, unless the existing provider of public transportation service is a third-party contract provider; or

c. Route planning focused on public transportation service areas that have not experienced a reduction in service any time on or after January 20, 2020, as a result of the COVID-19 pandemic.

D. Application and Submission Information

1. Address To Request Application Package

A complete proposal submission includes two forms: The Standard Form (SF)-424 Application for Federal Assistance (downloaded from GRANTS.GOV) and the supplemental form for the FY 2021 Route Planning Restoration Program (downloaded from GRANTS.GOV or the FTA website at www.transit.dot.gov.

2. Content and Form of Application Submission

A complete proposal must include a completed SF-424 and the following documents attached to the “Attachments” section of the SF-424:

i. A supplemental form for the Route Planning Restoration Program. The information on the supplemental form will be used to determine applicant and project eligibility for the program, and to evaluate the proposal against the selection criteria described in Part E of this notice; and

ii. A map of the proposed study area showing the transit routes, low-income and other disadvantaged neighborhoods or communities, major roadways, major landmarks, and the geographic boundaries of the proposed planning activities.

FTA will accept only one supplemental form per SF-424 submission.

Applicants may attach additional supporting information to the SF-424 submission, including but not limited to letters of support, project budgets, relevant data, or excerpts from relevant planning documents. Supporting documentation must be described and referenced by file name in the appropriate response section of the supplemental form, or it may not be reviewed.

A complete application must include responses to all sections of the SF-424 and the supplemental form. Information such as the applicant's name, Federal amount requested, and description of the study area are requested in varying degrees of detail on both the SF-424 and supplemental form. Applicants must fill in all fields unless stated otherwise on the forms. Applicants should not place “N/A” or “refer to attachment” in lieu of typing in responses in the field sections. Applicants should use both the “Check Package for Errors” and the “Validate Form” buttons on both forms to check all required fields, and ensure the Federal amounts requested are consistent.

The SF-424 and supplemental form will prompt applicants to address the following items:

i. Provide the name of the lead applicant and, if applicable, the specific co-sponsors submitting the application.

ii. Provide the applicant's Dun and Bradstreet Data Universal Numbering System (DUNS) number.

iii. Provide contact information including: Contact name, title, address, phone number, and email address.

iv. Specify the Congressional district(s) where the planning project will take place.

v. Identify the project title and project scope to be funded, including anticipated substantial deliverables and the milestones at when they will be provided to FTA.

vi. Identify and describe an eligible transit planning project that meets the requirements of Section C, subsection 3 of this notice.

vii. Address each evaluation criterion separately, demonstrating how the project responds to each criterion described in Section E.

viii. Provide a line-item budget for the total planning effort, with enough detail to show the various key components of the planning project.

ix. Identify the Federal amount requested.

x. Provide an explanation of the scalability of the project.

xi. Address whether other Federal funds have been sought or received for the planning project.

xii. Provide a schedule and process for the development of the plan that includes anticipated dates for completing major tasks and substantial deliverables, and for completing the overall planning effort.

xiii. Identify potential State, local or other impediments to the products of the planning work and its implementation, and how the impediments will be addressed.

xiv. Address the extent to which the proposed activities address climate change. Applicants should identify any air quality nonattainment or maintenance areas under the Clean Air Act in the planning or study area. Nonattainment or maintenance areas should be limited to the following applicable National Ambient Air Quality Standards criteria pollutants: Carbon monoxide, ozone, and particulate matter 2.5 and 10. The U.S. Environmental Protection Agency's Green Book (available at https://www.epa.gov/green-book) is a publicly-available resource for nonattainment and maintenance area data. This consideration will further the goals of Executive Order 13990: Protecting Public Health and the Environment and Restoring Science to Tackle the Climate Crisis, and Executive Order 14008: Tackling the Climate Crisis at Home and Abroad.

xv. Describe how the proposed activities serve environmental justice populations and other disadvantaged neighborhoods or communities, promote racial equity, and reduce barriers to opportunity.

3. Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant is an individual or has an exemption approved by FTA or the U.S. Office of Management and Budget pursuant to 2 CFR 25.110. SAM registration takes approximately 3-5 business days, but FTA recommends allowing ample time, up to several weeks, for completion of all steps. For additional information on obtaining a unique entity identifier, please visit www.sam.gov.

4. Submission Dates and Times

Project proposals must be submitted electronically through GRANTS.GOV by 11:59 p.m. EDT November 15, 2021. GRANTS.GOV attaches a time stamp to each application at the time of submission. Proposals submitted after the deadline will only be considered under extraordinary circumstances not under the applicant's control. Applications are time and date stamped by GRANTS.GOV upon successful submission. Mail and fax submissions will not be accepted.

Within 48 hours after submitting an electronic application, the applicant should receive two email messages from GRANTS.GOV: (1) Confirmation of successful transmission to GRANTS.GOV; and (2) confirmation of successful validation by GRANTS.GOV. FTA will then validate the application and will attempt to notify any applicants whose applications could not be validated. If the applicant does not receive confirmation of successful validation or a notice of failed validation or incomplete materials, the applicant must address the reason for the failed validation, as described in the email notice, and resubmit before the submission deadline. If making a resubmission for any reason, include all original attachments regardless of which attachments were updated and check the box on the supplemental form indicating it is a resubmission. An application that is submitted at the deadline and cannot be validated will be marked as incomplete and will not receive additional time to re-submit.

FTA urges applicants to submit their applications at least 96 hours prior to the due date to allow time to receive the validation messages and to correct any problems that may have caused a rejection notification. GRANTS.GOV scheduled maintenance and outage times are announced on the GRANTS.GOV website. Deadlines will not be extended due to scheduled maintenance or outages.

Applicants are encouraged to begin the registration process on the GRANTS.GOV site well in advance of the submission deadline. Registration in GRANTS.GOV is a multi-step process, which may take several weeks to complete before an application can be submitted. Registered applicants may still be required to take steps to keep their registration up to date before submissions can be made successfully: (1) Registration in the System for Award Management (SAM) is renewed annually and (2) persons making submissions on behalf of the Authorized Organization Representative (AOR) must be authorized in GRANTS.GOV by the AOR to make submissions.

5. Funding Restrictions

See Section C of this NOFO for detailed eligibility requirements. Funds must be used only for the specific purposes requested in the application. Allowable direct and indirect expenses must be consistent with the Governmentwide Uniform Administrative Requirements and Cost Principles (2 CFR part 200) and FTA Circular C5010.1E—Award Management Requirements.

Funds awarded under this NOFO cannot be used to reimburse projects for otherwise eligible expenses incurred prior to an FTA award under this program. FTA will issue pre-award authority to incur costs for selected projects beginning on the date that project selections are announced. FTA does not provide pre-award authority for competitive funds until projects are selected, and even then, there are Federal requirements that must be met before costs are incurred. FTA will issue specific guidance to awardees regarding pre-award authority at the time of selection. For more information about FTA's policy on pre-award authority, please see the most recent Apportionment Notice on FTA's website.

6. Other Submission Requirements

All applications must be submitted via the GRANTS.GOV website. FTA does not accept applications on paper, by fax machine, email, or other means. For information on application submission requirements, please see Section D.1., Address to Request Application and Section D.4., Submission Dates and Times.

E. Application Review Information

1. Criteria

Project proposals will be evaluated primarily on the responses provided in the supplemental form. Additional information may be provided to support the responses; however, any additional documentation must be directly referenced on the supplemental form, including the file name where the additional information can be found. Applications will be evaluated based on the quality and extent to which the following evaluation criteria are addressed.

Applicants are encouraged to identify scaled funding options in case insufficient funding is available to fund a project at the full requested amount. If an applicant proposes that a project is scalable, the applicant must provide an appropriate minimum funding amount that will fund an eligible project that achieves the objectives of the program and meets all relevant program requirements. The applicant must provide a clear explanation of how the project budget would be affected by a reduced award.

a. Demonstrated Need

FTA will evaluate each project to determine the need for funding based on the following factors:

i. Pre-pandemic service levels versus current service levels using both absolute numbers and relative proportions of service reduction and elimination of:

a. Service routes and route mileage; and

b. Scheduled daily hours of service; and

c. Vehicle-revenue miles of service.

ii. Pre-pandemic versus current levels of ridership due to reduced or eliminated services:

a. Number and percentage of all transit riders impacted by reduced or eliminated services; and

b. Number and percentage of low-income transit riders impacted by reduced or eliminated services.

iii. Pre-pandemic versus current numbers and percentages of low-income residents of affected neighborhoods or communities. Number and percentage of residents of affected disadvantaged neighborhoods or communities.

b. Demonstrated Benefits

FTA will evaluate the potential benefits of the proposed planning project based on the extent to which the public transit route planning activity would address the following:

i. Transit service levels;

ii. Anticipated ridership;

iii. Anticipated transit travel times;

iv. Improved transit service quality provided to low-income riders;

v. Improved transit service frequency provided to low income riders;

vi. Improved transit service quality provided to disadvantaged neighborhoods or communities;

vii. Improved transit service frequency provided to disadvantaged neighborhoods or communities.

viii. Racial Equity and Barriers to Opportunity; FTA will evaluate the extent to which the route planning study addresses racial equity and barriers to opportunity, including automobile dependence as a barrier. FTA will also consider the extent to which applications incorporate such activities as equity-focused community outreach and public engagement of low-income transit riders, disadvantaged neighborhoods and communities in the planning process, and adoption of an equity and inclusion program or plan or equity-focused policies; and

ix. Environmental Justice. FTA will evaluate the extent to which the route planning study will support increased access to transit for environmental justice populations and engages such populations in plan or study development.

c. Project Implementation Strategy

FTA will evaluate the strength of the work plan, schedule and process included in an application based on the following factors:

i. Extent to which the schedule contains sufficient detail, identifies all deliverables and steps needed to implement the work proposed, and is achievable;

ii. Extent to which deliverables would provide guidelines implementing a realistic sequence of route restoration steps that could be taken to restore and/or expand transit service levels to improve ridership and serve low-income riders and disadvantaged neighborhoods or communities;

iii. Extent to which the route planning process will engage the local public, including low-income riders and disadvantaged neighborhoods or communities, as well as stakeholder groups; and

iv. Extent to which there is coordination with city/county local government agencies, the metropolitan planning process, local social service agencies, housing authorities, and employers.

v. Use of reliable route planning methods to undertake the route planning activities to estimate future ridership, changes in travel times, increases in vehicle revenue miles, and quality of transit service.

vi. Use of reliable data and route planning methods to identify low-income riders and disadvantaged communities and neighborhoods and assess equitable provision of transit service to low income riders and disadvantaged neighborhoods or communities.

vii. Identification of deliverables (service plans, routing schemes, etc.) that will be produced from the route planning study.

d. Technical, Legal, and Financial Capacity

Applicants must demonstrate they have the technical, legal, and financial capacity to undertake the project. FTA will review relevant oversight assessments and records to determine whether there are any outstanding legal, technical, or financial issues with the applicant that would affect the outcome of the proposed project. Applicants with unresolved legal, technical, or financial compliance issues from an FTA compliance review or Federal grant-related Single Audit finding must explain how corrective actions taken will mitigate negative impacts on the proposed project.

2. Review and Selection Process

In addition to other FTA staff who may review the proposals, a technical evaluation committee will verify each proposal's eligibility and evaluate proposals based on the published evaluation criteria. Members of the technical evaluation committee and other FTA staff may request additional information from applicants, if necessary.

Based on the findings of the technical evaluation committee, the FTA Administrator will determine the final selection of projects for program funding. In determining the allocation of program funds, FTA may consider geographic diversity, diversity in the size of the grant recipients receiving funding, or the applicant's receipt of other competitive awards.

3. Performance and Integrity Review

Prior to making an award, FTA is required to review and consider any information about the applicant that is in the Federal Awardee Performance and Integrity Information Systems (FAPIIS) accessible through SAM. An applicant may review and comment on information about itself that a Federal awarding agency previously entered. FTA will consider any comments by the applicant, in addition to the other information in the designated integrity and performance system, in making a judgment about the applicant's integrity, business ethics, and record of performance under Federal awards when completing the review of risk posed by applicants as described in 2 CFR 200.206 Federal awarding agency review of risk posed by applicants.

F. Federal Award Administration Information

1. Federal Award Notices

The FTA Administrator will announce the final project selections on the FTA website. Selected applicants should contact their FTA regional office for additional information regarding allocations for projects under the Route Planning Restoration Program.

2. Administrative and National Policy Requirements

a. Pre-Award Authority

FTA will issue specific guidance to recipients regarding pre-award authority at the time of selection. FTA does not provide pre-award authority for competitive funds until projects are selected and even then, there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the most recent Apportionment Notice at: https://www.transit.dot.gov.

b. Grant Requirements

If selected, awardees will apply for a grant through FTA's Transit Award Management System (TrAMS). All competitive grants, regardless of award amount, will be subject to the Congressional Notification and release process. Technical assistance regarding these requirements is available from each FTA regional office.

c. Disadvantaged Business Enterprise

FTA requires its recipients receiving planning, capital, or operating assistance that will award prime contracts exceeding $250,000 in FTA funds in a Federal fiscal year comply with the U.S. Department of Transportation's Disadvantaged Business Enterprise (DBE) program regulations (49 CFR part 26). Applicants should expect to include any funds awarded in setting their overall DBE goal.

d. Planning

FTA encourages applicants to notify the appropriate metropolitan planning organizations in areas likely to be served by the funds made available under this program. Selected projects must be incorporated into the unified planning work programs of metropolitan areas before they are eligible for FTA funding or pre-award authority.

e. Standard Assurances

If selected, the applicant must assure that it will comply with all applicable Federal statutes, regulations, executive orders, directives, FTA circulars, and other Federal administrative requirements in carrying out any project supported by the FTA grant. The applicant acknowledges that it will be under a continuing obligation to comply with the terms and conditions of the grant agreement issued for its project with FTA. The applicant understands that Federal laws, regulations, policies, and administrative practices might be modified from time to time and may affect the implementation of the project. The most recent Federal requirements will apply to the project unless FTA issues a written determination otherwise. The applicant must submit the Certifications and Assurances before receiving a grant if it does not have current certifications on file.

3. Reporting

Post-award reporting requirements include submission of Federal Financial Reports and Milestone Progress Reports in FTA's electronic grants management system on a quarterly basis. Applicants should include any goals, targets, and indicators referenced in their application to the project in the Executive Summary of the TrAMS application. Awardees must also submit copies of the substantial deliverables identified in the work plan to the FTA regional office at the corresponding milestones.

As part of completing the annual Certifications and Assurances required of FTA grant recipients, a successful applicant must report on the suspension or debarment status of itself and its principals.

If the award recipient's active grants, cooperative agreements, and procurement contracts from all Federal awarding agencies exceed $10,000,000 for any period of time during the period of performance of an award made pursuant to this Notice, the recipient must maintain the currency of information reported to the System for Award Management (SAM) that is made available in the designated integrity and performance system (currently the Federal Awardee Performance and Integrity Information System (FAPIIS)) about civil, criminal, or administrative proceedings in connection with the award or performance of a grant, cooperative agreement, or procurement contract from the Federal Government. See Appendix XII to 2 CFR part 200 for more information.

G. Federal Awarding Agency Contacts

For program-specific questions, please contact Colby McFarland, Office of Planning and Environment, (202) 366-1648, email: Colby.McFarland@dot.gov. A TDD is available at 1-800-877-8339 (TDD/FIRS). Any addenda that FTA releases on the application process will be posted at https://www.transit.dot.gov. To ensure applicants receive accurate information about eligibility or the program, the applicant is encouraged to contact FTA directly, rather than through intermediaries or third parties. FTA staff may also conduct briefings on the FY 2021 competitive grants selection and award process upon request. Contact information for FTA's regional offices can be found on FTA's website at http://www.transit.dot.gov. For assistance with GRANTS.GOV, please contact GRANTS.GOV by phone at 1-800-518-4726 or by email at support@grants.gov.

H. Other Program Information

This program is not subject to Executive Order 12372, “Intergovernmental Review of Federal Programs.”

Nuria I. Fernandez,
Administrator.

[FR Doc. 2021-19735 Filed 9-13-21; 8:45 am]

BILLING CODE 4910-57-P